COMMODITY FUTURES TRADING COMMISSION

17 CFR Part 3

RIN 3038-AB89

Registration of Intermediaries

AGENCY: Commodity Futures Trading Commission.

ACTION: Final rules; correction.

SUMMARY: The Commodity Futures Trading Commission (the “Commission” or “CFTC”) published in the Federal Register of June 6, 2002, a document concerning final rules relating to the registration of intermediaries. Inadvertently, the Commission cited to an incorrect paragraph designation. This document corrects that error.

EFFECTIVE DATE: Effective on June 17, 2002.

FOR FURTHER INFORMATION CONTACT: Lawrence B. Patent, Associate Chief Counsel, or Michael A. Piracci, Attorney-Advisor, Division of Trading and Markets, Commodity Futures Trading Commission, Three Lafayette Centre, 1155 21st Street, NW., Washington, DC 20581. Telephone: (202) 418-5430.

SUPPLEMENTARY INFORMATION: The Commission published in the Federal Register of June 6, 2002, a document concerning final rules relating to the registration of intermediaries.¹ In that document, the Commission indicated that it was revising paragraph (a)(2)(i) of Rule 3.10. This revision was actually of paragraph (a)(2), because the Commission had previously redesignated paragraph (a)(2)(i) as paragraph (a)(2).² This correction makes that change.

¹ 67 FR 38869 (June 6, 2002).

² See, 66 FR 53510, 53518 (Oct. 23, 2001).

In the final rule document appearing on page 38874 in the issue of Thursday, June 6, 2002, make the following corrections: in § 3.10, in the first column, in the amendatory instruction Number 3, second line, “paragraph (a)(2)(i)” should read “paragraph (a)(2)”; and in § 3.10, in the second column, sixth line, “(2)(i)” should read “(2)”.

Dated: June 11, 2002.
Jean A. Webb,
Secretary of the Commission.

[FR Doc. 02-15178 Filed 6-14-02; 8:45 am]

BILLING CODE 6351-01-M